NATIONAL AERONAUTICS AND SPACE ADMINISTRATION

[Notice (19-029)]

National Environmental Policy Act; Wallops Flight Facility; Site-Wide

AGENCY: National Aeronautics and Space Administration (NASA).

ACTION: Notice of availability of the Final Site-wide Programmatic Environmental Impact Statement (PEIS) for improvement of infrastructure and services at Wallops Flight Facility (WFF), Accomack County, Virginia.

SUMMARY: Pursuant to the National Environmental Policy Act (NEPA), as amended, the Council on Environmental Quality Regulations for Implementing the Procedural Provisions of NEPA, and NASA's NEPA policy and procedures, NASA has prepared a Final PEIS for the improvement of infrastructure and services at WFF. The Federal Aviation Administration's Air Traffic Organization and the Office of Commercial Space Transportation; the Federal Highway Administration; the National Oceanic and Atmospheric Administration's (NOAA) National Environmental Satellite, Data, and Information Service; the U.S. Army Corps of Engineers; the U.S. Coast Guard; the U.S. Fish and Wildlife Service; the U.S. Navy, Naval Sea Systems Command; the U.S. Navy, Naval Air Systems Command; U.S. Navy, U.S. Fleet Forces Command; the U.S. Environmental Protection Agency (EPA); the U.S. Air Force Space Command/Space and Missile Systems Center; and Virginia Commercial Space Flight Authority have served as Cooperating Agencies in preparing the Final PEIS as they either have permanent facilities or missions at WFF or possess regulatory authority or specialized expertise pertaining to the Proposed Action.

The purpose of this notice is to apprise interested agencies, organizations, tribal governments, and individuals of the availability of the Final PEIS.

DATES: NASA will issue a Record of Decision (ROD) based on the Final PEIS no sooner than 30 days from the date of publication in the Federal Register of the U.S. Environmental Protection Agency's Notice of Availability of the Final PEIS.

ADDRESSES: The Final PEIS may be viewed at the following locations:

(a) Chincoteague Island Library, Chincoteague, Virginia, 23336 (757) 336-3460

(b) NASA Wallops Visitor Center, Wallops Island, Virginia, 23337 (757) 824-1344

(c) Eastern Shore Public Library, Accomac, Virginia, 23301 (757) 787-3400

(d) Northampton Free Library, Nassawadox, Virginia, 23413 (757) 414-0010

A limited number of hard copies of the Final PEIS are available, on a first request basis, by contacting the NASA point of contact listed under FOR FURTHER INFORMATION CONTACT. The Final PEIS is available on the internet in Adobe® portable document format at https://code200-external.gsfc.nasa.gov/250-wff/site-wide_eis. NASA's ROD will be made available, once issued, on the same website as above and by request to the contact provided above.

FOR FURTHER INFORMATION CONTACT: Shari Miller, Site-wide PEIS, NASA Goddard Space Flight Center's Wallops Flight Facility, Mailstop: 250.W, Wallops Island, Virginia 23337; telephone (757) 824-2327; email: Shari.A.Miller@nasa.gov. A toll-free telephone number, (800) 521-3415, is also available for persons outside the local calling area. When using the toll-free number, please follow the menu options and enter the “pound sign (#)” followed by extension number “2327.” Additional information about NASA's WFF may be found on the internet at http://www.nasa.gov/centers/wallops/home/index.html. Information regarding the NEPA process for this proposal and supporting documents (as available) are located at https://code200-external.gsfc .nasa.gov/250-wff/site-wide_eis.

SUPPLEMENTARY INFORMATION: WFF is a NASA Goddard Space Flight Center field installation located in northern Accomack County on the Eastern Shore of Virginia. The facility consists of three distinct landmasses—the Main Base, Wallops Mainland, and Wallops Island. WFF operates the oldest active launch range in the continental U.S. and the only range completely under NASA management. For over 70 years, WFF has flown thousands of research vehicles in the quest for information on the characteristics of airplanes, rockets, and spacecraft, and to increase the knowledge of the Earth's upper atmosphere and the near space environment. The flight programs and projects conducted by WFF range from small sounding and suborbital rockets, unmanned scientific balloons, unmanned aerial systems, manned aircraft, and orbital spacecraft to next-generation launch vehicles and small- and medium-classed launch vehicles.

In keeping with the principles, goals, and guidelines of the 2010 U.S. National Space Policy, as updated by the 2013 U.S. National Space Transportation Policy and the 2017 Presidential Memorandum on Reinvigorating America's Human Space Exploration Program, NASA is proposing to improve its service capability at WFF to support a growing mission base in the areas of civil, defense, and academic aerospace. One guiding principle of the National Space Policy is for Federal agencies to facilitate the commercial space industry. The Mid-Atlantic Regional Spaceport, a commercial launch site on Wallops Island, is a real-world example of WFF's commitment to making commercial access to space a reality. Accordingly, it is expected that a commercial presence at WFF will continue to expand in the coming years.

The National Space Policy also instructs Federal agencies to improve their partnerships through cooperation, collaboration, information sharing, and/or alignment of common pursuits with each other. WFF supports aeronautical research, and science, technology, engineering, and math (STEM) education programs by providing other NASA centers and other U.S. government agencies access to resources such as special use (i.e., controlled/restricted) airspace, runways, and launch pads. WFF regularly facilitates a wide array of U.S. Department of Defense (DoD) research, development, testing, and evaluation; training missions, including target and missile launches; and aircraft pilot training. Similar to its forecasted commercial growth at WFF, NASA also expects an increase in DoD presence at WFF in the foreseeable future.

Finally, the National Space Policy directs NASA to fulfill various key civil space roles regarding space science, exploration, and discovery; a number of which have been priorities at WFF for decades. NASA's need to ensure continued growth while preserving the ability to safely conduct its historical baseline of services is a key component of facilitating future projects and new missions at WFF.

Related Environmental Documents

In January 2005, NASA issued a Final Site-Wide Environmental Assessment (EA) and Finding of No Significant Impact (FONSI) for its operations and institutional support at WFF. Since then, substantial growth has occurred and NASA, and its Cooperating Agencies, have prepared multiple supplemental NEPA documents including the 2008 EA/FONSI for the Wallops Research Park; the 2009 EA/FONSI for the Expansion of the Wallops Flight Facility Launch Range; the 2010 PEIS/Record of Decision for the Shoreline Restoration and Infrastructure Protection Program; the 2011 EA/FONSI for the Alternative Energy Project; the 2011 EA/FONSI for the Main Entrance Reconfiguration; the 2011 NOAA EA/FONSI for Electrical and Operational Upgrade, Space Addition, and Geostationary Operational Environmental Satellite Installation; the 2012 EA/FONSI for the North Wallops Island Unmanned Aerial Systems Airstrip Project; the U.S. Fleet Force Command's 2013 EA/FONSI for E-2/C-2 Field Carrier Landing Practice at WFF; the Navy's 2014 EA/FONSI for the Testing of Hypervelocity Projectiles and an Electromagnetic Railgun; the 2015 Supplemental EA/FONSI for Antares 200 Configuration Expendable Launch Vehicle at WFF; the 2016 EA/FONSI for Establishment of Restricted Area Airspace R-6604 C/D/E; the Navy's 2017 EA/FONSI for and the Installation and Operation of Air and Missile Defense Radar AN/SPY-6; the 2017 U.S. Air Force's EA/FONSI for the Instrumentation Tower on Wallops Island; and the Navy's 2018 EIS/Overseas EIS/ROD for Atlantic Fleet Training and Testing.

Need for Preparing a PEIS

Since the 2005 WFF Site-wide EA, NASA, NOAA, and the Navy have updated their Master Plans for Wallops Island; which propose new facilities and numerous infrastructure improvements to enable a growing mission base. Additionally, during reviews of the post-2005 Site-wide EA NEPA documents, resource agencies have expressed concerns regarding cumulative environmental effects and a desire for NASA to consider all reasonably foreseeable future projects at WFF in a consolidated NEPA document. NASA determined that preparing a single Site-wide PEIS not only would assist in its decision-making process for future mission growth at WFF but also address concerns regarding cumulative environmental effects. Therefore, the Site-wide PEIS considers all reasonably foreseeable future actions at WFF; those proposed by NASA along with those proposed by its tenants and partners.

Cooperating Agency Actions

The Site-wide PEIS will serve as a decision-making tool not only for NASA but also for its Cooperating Agencies. Given the potential for their undertaking actions related to NASA's actions, each of these agencies has been involved closely in NASA's NEPA process.

Alternatives

The PEIS evaluates the environmental consequences of a range of reasonable alternatives that meet NASA's need to ensure continued growth at WFF while also preserving the ability to safely conduct its historical baseline of services. The planning horizon for actions in the PEIS is 20 years.

The PEIS considers a Proposed Action and a No Action alternative. The Proposed Action, NASA's preferred alternative, would support a number of facility projects ranging from new construction, demolition, and renovation; the replacement of the Wallops causeway bridge; maintenance dredging between the boat docks at the Main Base and Wallops Island; development of a deep-water port and operations area on North Wallops Island; construction and operation of an additional medium to heavy class launch site; the introduction of new NASA and DoD programs at WFF; the expansion of the launch vehicle services with liquid-fueled intermediate class and solid fueled heavy class launch vehicles; and the consideration of commercial human spaceflight missions and the return of launch vehicles to the launch site. Under the No Action Alternative, WFF and its partners would continue the existing operations and programs previously discussed in the 2005 Site-Wide EA and the subsequent NEPA documents identified under Related Environmental Documents.

Review of the Draft PEIS

NASA sought public comments on the analysis and findings presented in the Draft Site-wide PEIS during the 45-day public comment period which ran from May 4 through June 18, 2018. An NOA was placed in the Federal Register on May 4, 2018, and public notices were published in the Eastern Shore News, Chincoteague Beacon, Eastern Shore Post, and The Daily Times.

A public meeting was held at the NASA Wallops Flight Facility Visitor Center on May 23, 2018, from 6:00 to 8:00 p.m. A total of nine comment letters were received. Appendix I of the Final PEIS provides the public notices, meeting materials, and comment letters received during the public review period.

In accordance with 15 CFR 930.2, the Virginia Department of Environmental Quality (VDEQ) invited the public to participate in the review of the Federal Consistency Determination submitted for NASA's proposed action. A public notice was published in the VDEQ's Office of Environmental Impact Review Program Newsletter and on the VDEQ website from May 11 through June 21, 2018. No public comments were received in response to the notice. In accordance with 40 CFR 1506.9, EPA published an NOA of the Draft PEIS in the Federal Register on May 4, 2018. No public comments were received in response to the notice.

In summary, notice of the availability of the Final PEIS is hereby given.

Cheryl E. Parker,
Federal Liaison Officer.

[FR Doc. 2019-09763 Filed 5-10-19; 8:45 am]

BILLING CODE 7510-13-P